DEPARTMENT OF DEFENSE

Department of the Army; Corps of Engineers

Supplement to Notice of Intent To Prepare Draft Environmental Impact Statement for the Proposed Implementation of Interim Water Storage Contracts Associated With the Southeastern Federal Power Customers Settlement Agreement, at Lake Sidney Lanier/Buford Dam, GA

AGENCY: Department of the Army, U.S. Army Corps of Engineers, DoD.

ACTION: Announcement of meetings.

SUMMARY: The U.S. Army Corps of Engineers (Corps), Mobile District, issued a Notice of Intent (NOI) on June 16, 2006 (71 FR 34901) describing the preparation of a Draft Environmental Impact Statement (EIS), as required by the National Environmental Policy Act (NEPA), to address the proposed implementation of interim water storage contracts at Lake Sidney Lanier/Buford Dam, GA, as contained in a settlement agreement associated with the Southeastern Federal Power Customers, Inc., (SeFPC) v. Secretary of the Army, et al. (1:00CV02954-TPJ) lawsuit. The Draft EIS will also address any changes in water management operations at Lake Lanier/Buford Dam, as well as the potential for other changes to operations in downstream reservoir projects in the Apalachicola, Chattahoochee, Flint Rivers (ACF) basin, which would result from implementation of the interim water storage contracts. This supplement to the NOI provides additional information explaining the scoping process that will be used to gather information on the project from the public and details regarding the dates and locations of public scoping meetings.

DATES: Scoping comments may be provided anytime during preparation of the EIS, but would be most useful for planning purposes if provided by December 29, 2006.

FOR FURTHER INFORMATION CONTACT: Questions about this Draft EIS or the NEPA process can be answered by: Ms. Joanne Brandt, Environmental Compliance Manager, Inland Environment Team, U.S. Army Engineer District—Mobile, P.O. Box 2288, Mobile, AL 36628-0001; telephone (251) 690-3260; or delivered by electronic facsimile at (251) 694-3815; or E-mail: joanne.u.brandt@sam.usace.army.mil. You may also request to be included on the mailing list for public distribution of meeting announcements and documents.

SUPPLEMENTARY INFORMATION: Public Scoping Meetings. Public scoping meetings have been scheduled to allow participation from interested individuals throughout the ACF basin. Five public scoping meetings will be held on the dates and at the locations listed below. All meetings will have the same format and present the same information to the public. These meetings will be conducted as open-house meetings with subject matter experts located at various information stations. A court reporter will be available to accept oral statements, and comment forms will be available to accept specific written comments.

Tuesday, November 28, 2006, 5 p.m.-8 p.m., Georgia Mountains Center, 301 Main Street SW., Gainesville, GA 30503, (770) 534-8420.

Wednesday, November 29, 2006, 5 p.m.-8 p.m., Renaissance Waverly Hotel, 2450 Galleria Parkway, Atlanta, GA 30339, (888) 391-8724.

Thursday, November 30, 2006, 5 p.m.-8 p.m., Troup County Parks and Recreation Center, 1220 Lafayette Parkway, LaGrange, GA 30240, (706) 883-1670.

Tuesday, December 5, 2006, 5 p.m.-8 p.m., Dothan Conference Center, 3113 Oxmoor Industrial Boulevard, Dothan, AL 36303, (800) 453-5302.

Wednesday, December 6, 2006, 5 p.m.-8 p.m., The Center for Economic and Workforce Development, Tallahassee Community College, 444 Appleyard Drive, Tallahassee, FL 32304, (850) 201-6200.

Currently Identified Environmental Issues. The EIS will address the potential for any impacts to the multiple project purposes identified for Lake Sidney Lanier/Buford Dam and downstream reservoirs along with other resource areas of interest, including hydropower, navigation, water quality, water supply, flood control, fish and wildlife conservation, endangered and threatened species, recreation, cultural resources, and socioeconomic concerns. This preliminary list could be revised according to your comments and continued coordination and analyses conducted during preparation of the EIS.

Public Participation. Public participation throughout the NEPA process is essential. The Corps invites full public participation to promote open communication and better decision making. All persons, stakeholders, and organizations that have an interest in the interim water storage contracts, including Federal, State and local agencies and officials, appropriate Federally recognized Indian tribes, other interested parties and the public, including minority, low-income, disadvantaged individuals, are invited to participate in the NEPA process. Assistance will be provided upon request to anyone having difficulty with understanding how to participate. Public comments are welcomed anytime throughout the NEPA process.

Scoping Comments. Your input and participation in the scoping process will help identify the issues that need to be evaluated in the EIS. Comments on the project may be submitted in written form or presented verbally at one of the five public scoping meetings. You can make a difference by providing us with your specific comments or concerns about the implementation of the interim water storage contracts. By commenting, the Corps will address and consider your concerns in the EIS. Your comments should focus on the potential environmental effects, reasonable alternatives, and measures to avoid or lessen environmental impacts. Your comments can also address significant issues and resource areas of concern; additional stakeholders to be involved in the evaluation process; sources of pertinent information and any significant data gaps; assist in identifying and focusing the alternatives to be evaluated; defining the baseline for comparison of impacts; and appropriate methods and tools that can be used to assess impacts of the proposed action. The more specific your comments, the more useful they will be.

The Corps encourages electronic filing of comments in response to this NOI. For information on electronically filing comments, see the instructions at http://www.LanierEIS-InterimStorageContracts.org under the Comments link. The public scoping meetings (date, time, and location listed above) are designed to provide another opportunity to offer comments on the proposed action. Interested groups and individuals are encouraged to attend these meetings and to present comments that they believe should be addressed in the EIS. Following completion of the public scoping meetings, a report will be prepared to summarize the comments received and areas of concern identified during the scoping period.

Web Page. Additional information about the project is available from the Web page http://www.LanierEIS-InterimStorageContracts.org. If you would also like to be included on the mailing list for public distribution of meeting announcements, newsletters and other documents, you may fill out a contact form on the Web page.

Dated: October 20, 2006.
Peter F. Taylor,
Colonel, Corps of Engineers, District Engineer.

[FR Doc. 06-8936 Filed 10-26-06; 8:45 am]

BILLING CODE 3710-CR-M